DEPARTMENT OF ENERGY

Federal Energy Regulatory Commission

[Docket No. EL05-22-000]

Entergy Services, Inc.; Notice of Initiation of Proceeding and Refund Effective Date

December 21, 2004.

On December 17, 2004, the Commission issued an order in the above-docketed proceeding. The Commission's order institutes a proceeding in Docket No. EL05-22-000 under section 206 of the Federal Power Act concerning the justness and reasonableness of the available flowgate capability (AFC) methodology's effect on transmission availability, as discussed in the Commission's order, which addressed Entergy Services, Inc.'s proposed tariff sheets.

The refund effective date in Docket No. EL05-22-000, established pursuant to section 206(b) of the Federal Power Act will be 60 days following publication of this notice in the Federal Register.

Magalie R. Salas,
Secretary.

[FR Doc. E4-3846 Filed 12-28-04; 8:45 am]

BILLING CODE 6717-01-P